NATIONAL AERONAUTICS AND SPACE ADMINISTRATION

[Notice 04-096]

NASA Advisory Council, Minority Business Resource Advisory Committee; Meeting

AGENCY: National Aeronautics and Space Administration (NASA).

ACTION: Notice of meeting.

SUMMARY: In accordance with the Federal Advisory Committee Act, Public Law 92-463, as amended, the National Aeronautics and Space Administration announce a forthcoming meeting of the NASA Advisory Council (NAC), Minority Business Resource Advisory Committee.

DATES: Wednesday, September 8, 2004, 9 a.m. to 4 p.m., and Thursday, September 9, 2004, 9 a.m. to 12 noon.

ADDRESSES: NASA HQ, 300 E Street, SW., Washington, DC, Room: PRC 9H40.

FOR FURTHER INFORMATION CONTACT: Mr. Ralph C. Thomas III, Office of Small and Disadvantaged Business Utilization, National Aeronautics and Space Administration, (202) 358-2088.

SUPPLEMENTARY INFORMATION: The meeting will be open to the public up to the seating capacity of the room. The agenda for the meeting is as follows:

—Review of Previous Meeting

—Minority Enterprise Development Week (MED Week)

—Agency Transformation

—Overview of Small Business Program

—Public Comment

—Panel Discussion and Review

—Office of Small and Disadvantaged Business Utilization National Program Update

—Agency Minority Business Recognition Program

Attendees will be requested to sign a register and to comply with NASA security requirements, including the presentation of a valid picture ID, before receiving an access badge. Foreign nationals attending this meeting will be required to provide the following information: Full name; gender; date/place of birth; citizenship; employee/affiliation information (name of institution, address, country, phone); title/position of attendee. To expedite admittance, attendees can provide identifying information in advance by contacting Mr. Lamont Hames via e-mail at lhames@nasa.gov or by telephone at 202-358-2088. It is imperative that the meeting be held on this date to accommodate the scheduling priorities of the key participants.

Visitors will be requested to sign a visitor's register.

R. Andrew Falcon,
Advisory Committee Management Officer, National Aeronautics and Space Administration.

[FR Doc. 04-18948 Filed 8-17-04; 8:45 am]

BILLING CODE 7510-01-P